ENVIRONMENTAL PROTECTION AGENCY

40 CFR Part 282

[EPA-R03-UST-2025-0091; FRL 12797-01-R3]

Maryland: Final Approval of State Underground Storage Tank Program Revisions, Codification, and Incorporation by Reference

AGENCY: Environmental Protection Agency (EPA).

ACTION: Proposed rule.

SUMMARY: Pursuant to the Solid Waste Disposal Act of 1965, as amended (commonly known as the Resource Conservation and Recovery Act (RCRA)), the Environmental Protection Agency (EPA) is proposing to approve revisions to the State of Maryland's Underground Storage Tank (UST) program submitted by Maryland (Maryland or State). This action is based on EPA's determination that these revisions satisfy all the requirements needed for program approval. This action also proposes to codify EPA's approval of Maryland's state program and to incorporate by reference (IBR) those provisions of Maryland's regulations and statutes that EPA has determined meet the requirements for approval. The provisions will be subject to EPA's inspection and enforcement authorities under sections 9005 and 9006 of RCRA Subtitle I and other applicable statutory and regulatory provisions. In the “Rules and Regulations” section of this issue of the Federal Register, EPA is approving this action by a direct final rule. If no significant negative comment is received, EPA will not take further action on this proposed rulemaking, and the direct final rule will be effective 60 days from the date of publication in this Federal Register. If you want to comment on EPA's proposed approval of Maryland's revisions to its state UST program, you must do so at this time.

DATES: Send written comments by November 10, 2025.

ADDRESSES: Submit your comments, identified by Docket ID No. EPA-R03-UST-2025-0091, by one of the following methods:

1. Federal eRulemaking Portal: https://www.regulations.gov. Follow the on-line instructions for submitting comments.

2. Email: uybarreta.thomas@epa.gov.

Instructions: Direct your comments to Docket ID No. EPA-R03-UST-2025-0091. EPA's policy is that all comments received will be included in the public docket without change and may be available online at https://www.regulations.gov, including any personal information provided, unless the comment includes information claimed to be Confidential Business Information (CBI) or other information whose disclosure is restricted by statute. Do not submit information that you consider to be CBI or otherwise protected through https://www.regulations.gov, or email. The Federal website, https://www.regulations.gov, is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment. If EPA cannot read your comment due to technical difficulties, and cannot contact you for clarification, EPA may not be able to consider your comment. Electronic files should avoid the use of special characters, any form of encryption, and be free of any defects or viruses. EPA encourages electronic submittals, but if you are unable to submit electronically, please reach out to the EPA contact person listed in the notice for assistance. If you need assistance in a language other than English, or you are a person with disabilities who needs a reasonable accommodation at no cost to you, please reach out to the EPA contact person by email or phone. You can review and copy the documents that form the basis for this proposed action and associated publicly available materials through https://www.regulations.gov.

FOR FURTHER INFORMATION CONTACT: Thomas UyBarreta, (215) 814-2953, uybarreta.thomas@epa.gov, RCRA Programs Branch; Land, Chemicals, and Redevelopment Division, EPA Region 3, Four Penn Center, 1600 John F. Kennedy Blvd., (Mailcode 3LD30), Philadelphia, PA 19103.

SUPPLEMENTARY INFORMATION: EPA has explained the reasons for this action in the preamble to the direct final rule. For additional information see the direct final rule published in the “Rules and Regulations” section of this issue of the Federal Register.

Authority: This proposed rule is issued under the authority of section 9004 of the Solid Waste Disposal Act of 1965, as amended, 42 U.S.C. 6991c.

Amy Van Blarcom-Lackey,
Regional Administrator, EPA Region 3.

[FR Doc. 2025-17518 Filed 9-10-25; 8:45 am]

BILLING CODE 6560-50-P